DEPARTMENT OF AGRICULTURE

Grain Inspection, Packers and Stockyards Administration

7 CFR Part 800

[Docket No. FGIS-2001-001a

RIN 0580-AA75

Fees for Official Inspection and Official Weighing Services

Correction

In proposed rule document 01-8145 beginning on page 17817 in the issue of Wednesday, April 4, 2001, make the following corrections:

1. On page 17817, in the first column, in the third line from the bottom, the E-mail address “comments@gipsadc.usd.gov” should read “comments@gipsadc.usda.gov”.

§800.71 [Corrected]

2. On page 17819, in Table 1, in the heading for the table's third column, “Monday to Friday (6 a.m. to 6 p.m.)” should read “Monday to Friday (6 p.m. to 6 a.m.)”.

[FR Doc. C1-8145 Filed 4-13-01; 8:45 am]

BILLING CODE 1505-01-D